DEPARTMENT OF JUSTICE

Notice of Proposed Settlement Agreement

In accordance with Departmental Policy and 42 U.S.C. 9622(i), notice is hereby given of a proposed Settlement Agreement reached by the United States, Chevron U.S.A., Inc. (“Chevron”), and Crowley Marine Services, Inc. (“Crowley”), concerning costs of responding to environmental contamination at the West Nome Tank Farm Site in Nome, Alaska.

This proposed Settlement Agreement resolves potential claims that the United States, Chevron, and/or Crowley could have brought against each other pursuant to the Comprehensive Environmental Response, Compensation, and Liability Act, 42 U.S.C. 9601 et seq., as amended; Alaska Statutes Title 46 and Alaska Administrative Code Title 18; the Resource Conservation and Recovery Act, 42 U.S.C. 6901 et seq., as amended; and the Clean Water Act, 33 U.S.C. 1251 et seq., as amended; and/or other law for past or future costs of responding to existing petroleum contamination by the United States, Chevron, and/or Crowley, or injunctive relief related to or in connection with such contamination at the West Nome Tank Farm Site. The proposed Settlement Agreement provides for Chevron and Crowley to pay the United States for response costs as soon as reasonably practicable after the Effective Date of the Settlement Agreement. It also provides that the United States Air Force will implement and maintain the remedy at the West Nome Tank Farm Site, and Chevron and Crowley will reimburse the United States at fixed percentages for potential response costs that might be incurred in the future.

The Department of Justice will accept written comments relating to this proposed Settlement Agreement for thirty (30) days from the date of publication of this Notice. Please address comments to Sonya J. Shea, United States Department of Justice, Environment and Natural Resources Division, Environmental Defense Section, 999 18th Street, South Terrace, Suite 370, Denver, CO 80202, or this email address: pubcomment_eds.enrd@usdoj.gov, and refer to In re: West Nome Tank Farm Site, DJ # 90-11-6-17656/1.

The proposed Settlement Agreement may be examined electronically at https://www.justice.gov/enrd/public-comments.

Cherie Rogers,
Assistant Section Chief, Environmental Defense Section, Environment and Natural Resources Division.

[FR Doc. 2022-23498 Filed 10-27-22; 8:45 am]

BILLING CODE 4410-CW-P